DEPARTMENT OF ENERGY

Environmental Management Site-Specific Advisory Board, Northern New Mexico

AGENCY: Department of Energy.

ACTION: Notice of open meeting.

SUMMARY: This notice announces a meeting of the Environmental Management Site-Specific Advisory Board (EM SSAB), Northern New Mexico. The Federal Advisory Committee Act (Pub. L. No. 92-463, 86 Stat. 770) requires that public notice of this meeting be announced in the Federal Register.

DATES: Wednesday, January 28, 2009, 2 p.m.-8 p.m.

ADDRESSES: Holiday Inn Santa Fe, 4048 Cerrillos Road, Santa Fe, New Mexico.

FOR FURTHER INFORMATION CONTACT: Menice Santistevan, Northern New Mexico Citizens' Advisory Board (NNMCAB), 1660 Old Pecos Trail, Suite B, Santa Fe, NM 87505. Phone (505) 995-0393; Fax (505) 989-1752 or E-mail: msantistevan@doeal.gov.

SUPPLEMENTARY INFORMATION: Purpose of the Board: The purpose of the Board is to make recommendations to DOE in the areas of environmental restoration, waste management, and related activities.

Tentative Agenda

2 p.m. Call to Order by Deputy Designated Federal Officer, Jeff Casalina.

Establishment of a Quorum, Lorelei Novak.

A. Roll Call.

B. Excused Absences.

Welcome and Introductions, J.D. Campbell.

Approval of Agenda.

Approval of November 19, 2008 Board Meeting Minutes.

2:15 p.m. Old Business.

A. Written Reports.

B. Open Discussion.

2:30 p.m. New Business.

A. Open Discussion.

2:45 p.m. Consideration and Action on Recommendations to DOE.

3:45 p.m. Break.

4 p.m. Environmental Protection Agency Update on Kerr Laboratory Review of Well Screen Analysis Report, Rich Mayer.

4:15 p.m. Update on Natural Resource Damage Assessment and Trustee Council Progress, Nancy Werdel.

4:40 p.m. Los Alamos Site Office Presentation on DOE Los Alamos National Laboratory Implementation of NNMCAB Recommendations, Jeff Casalina.

5 p.m. Dinner Break.

6 p.m. Public Comment Period.

6:15 p.m. Presentation on Well Network Analysis and Characterization of Groundwater at Site.

A. Identification of Planned New Wells with Approximate Schedule for Drilling.

B. Data Quality Objectives for Wells.

7:30 p.m. Open Discussion.

A. Press Releases, Editorials, etc.

B. Future Presentation Topics.

C. Other Items.

8 p.m. Adjourn, Jeff Casalina.

This agenda is subject to change at least one day in advance of the meeting.

Public Participation: The meeting is open to the public. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Menice Santistevan at the address or phone number listed above. Minutes and other Board documents are on the Internet at: http://www.nnmcab.org/minutes/board-minutes.htm.

Issued at Washington, DC on December 11, 2008.
Rachel Samuel,
Deputy Committee Management Officer.

[FR Doc. E8-29920 Filed 12-16-08; 8:45 am]

BILLING CODE 6450-01-P